NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) (#1173).

Date and Time: June 16, 2022; 1:00 p.m.-5:30 p.m., June 17, 2022; 11:00 a.m.-4:00 p.m.

Place: National Science Foundation, 2415 Eisenhower Avenue, Alexandria, VA 22314 (Virtual).

Meeting Registration: Virtual attendance information will be forthcoming on the CEOSE website at http://www.nsf.gov/od/oia/activities/ceose/index.jsp.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

Day 1

1:00 p.m.-1:15 p.m. Welcome and Introductions/Meeting Overview

1:15 p.m.-1:45 p.m. NSF CEOSE Executive Liaison Report

1:45 p.m.-2:45 p.m. Presentation: CEOSE Subcommittee's Report on the Future of EPSCoR

2:45 p.m.-3:00 p.m. Break

3:00 p.m.-4:00 p.m. Presentation: Issues of Invisibility: K-12/Informal Science Perspectives

4:00 p.m.-4:30 p.m. Data Briefing—NCSES/WMPD Leadership Team

4:30 p.m.-5:30 p.m. Discussion: CEOSE Liaison Reports

Day 2

11:00 a.m.-11:30 a.m. Opening Remarks

11:30 a.m.-1:00 p.m. Working Lunch Session: 2021-2022 CESOE Report

1:00 p.m.-1:20 p.m. CEOSE Discussion: Topics/Ideas to Share with Leadership

1:30 p.m.-2:00 p.m. Discussion with NSF Leadership

2:00 p.m.-2:15 p.m. Break

2:15 p.m.-3:35 p.m. Leadership Roundtable: Bold Leadership Actions

3:35 p.m.-4:00 p.m. Announcements and Final Remarks

Dated: May 10, 2022.
Crystal Robinson,
Committee Management Officer.

[FR Doc. 2022-10393 Filed 5-12-22; 8:45 am]

BILLING CODE 7555-01-P